DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Comprehensive Economic Development Strategies.

OMB Control Number: 0610-0093.

Form Number(s): None.

Type of Request: Regular submission (extension of a currently approved information collection).

Number of Respondents: 521.

Average Hours per Response: 60.

Burden Hours: 31,280.

Needs and Uses: In order to receive investment assistance under EDA's Public Works and Economic Adjustment programs, applicants must undertake a planning process that results in a Comprehensive Economic Development Strategy (CEDS). A CEDS also is a prerequisite for a region's designation by EDA as an Economic Development District (see 13 CFR 303, 305.2, and 307.2 of EDA's regulations). The CEDS planning process and resulting CEDS is designed to guide the economic growth of an area and provides a mechanism for coordinating the efforts of individuals, organizations, local governments, and private industry concerned with economic development. This collection of information is required to insure that recipients of EDA funds understand and are able to comply with EDA's CEDS requirements.

Affected Public: Not-for-profit institutions; Federal government; State, local, or tribal government; Business or other for-profit organizations.

Frequency: Annually.

Respondent's Obligation: Required to obtain or retain benefits.

OMB Desk Officer: Nicholas Frasier, (202) 395-5887.

Copies of the above information collection proposal can be obtained by calling or writing Jennifer Jessup, Departmental Paperwork Clearance Officer, (202) 482-0336, Department of Commerce, Room 6616, 14th and Constitution Avenue NW., Washington, DC 20230, or via the Internet at JJessup@doc.gov.

Written comments and recommendations for the proposed information collection should be sent within 30 days of publication of this notice to Nicholas A Fraser, OMB Desk Officer, FAX number (202) 395-7285, or via the Internet at Nicholas_A._Fraser@omb.eop.gov.

Dated: June 22, 2012.
Glenna Mickelson,
Management Analyst, Office of the Chief Information Officer.

[FR Doc. 2012-15794 Filed 6-27-12; 8:45 am]

BILLING CODE 3510-34-P